DEPARTMENT OF COMMERCE

Census Bureau

Census 2003 Test; Proposed Collection; Comment Request

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44.U.S.C.3506(C)(2)(A)).

DATES: Written comments must be submitted on or before August 6, 2002.

ADDRESSES: Direct all written comments to Madeleine Clayton, Departmental Paperwork Clearance Officer, Room 6608, 14th and Constitution Avenue, NW. Washington, DC 20230 (or via the Internet at mclayton@doc.gov).

FOR FURTHER INFORMATION CONTACT: Requests for additional information or copies of the information collection instruments and instructions should be directed to Suzanne Fratino, U.S. Census Bureau, Building 2, Room 2021, Washington, DC 20233-9200, 301-457-4134.

SUPPLEMENTARY INFORMATION

I. Abstract

In Census 2000, the Census Bureau conducted four separate tests examining innovative ideas. One of these “experiments” was the Response Mode and Incentive Experiment (RMIE). RMIE attempted to measure the extent to which respondents choose to use electronic response options including Computer Assisted Telephone Interviewing (CATI), Interactive Voice Response (IVR), and Internet. Preliminary findings from the RMIE initial mailout component and Operator Assistance indicate that Computer Assisted Telephone Interviewing does not offer clear advantages relative to the Internet in terms of increasing the overall response rate. The IVR mode showed promise but requires additional design work while the Internet mode yielded relatively high data quality. One major recommendation resulting from the RMIE was to investigate the best ways to present the availability of response options, and how to word messages included with the mailed questionnaire. To take advantage of evolving technology, the Census Bureau needs to research various self-response options toward developing a strategy that encourages the public to respond to the census using either paper or electronic options before Nonresponse Follow-up (NRFU) occurs. The method and optimum timing to contact, inform and, remind the public should be included.

The Census Bureau is planning a two-part test in 2003. The first part will examine the impact of offering various self-response options and the interactions among various options on overall response rates and data quality. These options include mail, Internet, Interactive Voice Recognition (IVR), and a combination of Internet and IVR. This test is also designed to address questions about the relative timing and content of various contacts. We hope to answer the following questions: (1) What is the effect of offering alternative data collection modes on response (i.e. increase, decrease, shift)? and (2) what is the effect of new or additional contact strategies on overall response?

The goal of this portion of the test is to identify, for further testing in 2004, the best strategy for increasing self-enumerated response to the census thus reducing the NRFU workload. Successful accomplishment of this goal will greatly improve the data quality of Census 2010 while reducing the cost of data collection.

The second part of the Census 2003 Test will assess the effects of dropping the “Some other race” response option. This test is designed to answer whether item nonresponse to the race question will increase if the “Some other race” response option with a write-in line is deleted, and what effect this will have on the overall quality of race reporting. In past decennial censuses, the Census Bureau has received an exception from the Office of Management and Budget which allowed it to include a “Some other race” category. This category is a source of noncomparability between the census and surveys and race data produced by other agencies. The purpose of this test is to develop and evaluate a mailout version of the race question that conforms to OMB standards by excluding the “Some other race” category. It will also measure the effectiveness of revised instructions for the Hispanic origin and race questions to convey to respondents the intent of the questions; more specifically that different responses are being requested in each of these questions. In addition, revisions to the Hispanic origin question, including the addition of examples of Hispanic groups to obtain more complete reporting of detailed Hispanic subgroups are to be tested. Examples for the Other Asian and the Other Pacific Islander response categories to the question on race also will be included. It is desirable to assess the feasibility of these changes to the questions on race and Hispanic origin so that alternatives can be developed and tested in a timely way before final question versions are adopted. The Census Bureau plans to conduct multiple rounds of cognitive testing to identify problems and revise question wordings and instructions before finalizing them for this test.

The goal of the race and Hispanic origin portion of the test is to develop question wording and content that will lead to improved self-reporting of both race and Hispanic origin in the census.

II. Method of Collection

The methodology for the Census 2003 Test consists of a data collection strategy involving fourteen different experimental panels. The control panel is a mailing strategy comprised of four pieces—an advance letter, an initial questionnaire, a reminder postcard, and a replacement questionnaire targeted to non-responding housing units. Essentially, this control panel is similar to the Census 2000 mailout strategy with the addition of a replacement questionnaire. In addition, the timing of each mail piece is different from Census 2000. The questionnaire used in nine of the panels will be a Census 2000 short form. The remaining six panels will use a Census 2000 short form with changes to both the Hispanic origin and race questions, their response categories, and instructions to answer both questions. “Census Day,” the reference date for enumerating respondents, will be February 6, 2003. The advance letter will be delivered to housing units in the sample by the United States Postal Service between January 22 and 24, 2003. The initial questionnaire will be delivered on January 28 and 30, followed by the reminder postcard during February 3-5. On February 10, we will determine the universe of non-respondents who will be mailed a replacement questionnaire on February 15-18, 2003.

A national sample of 220,000 addresses will be selected from housing units in Census 2000. The sample is restricted to addresses in Mailout/Mailback areas that are not in the American Community Survey sample during the test period. Based on Census 2000 return rates, census blocks will be stratified into high response and low response strata. A random sample of 5,000 housing units will be drawn from each stratum for each of the eight response strategy test panels, yielding a total of 10,000 housing units per panel. For the control panel and each of the six race and ethnicity panels, a sample of 10,000 housing units from each stratum will be selected, yielding a total of 20,000 housing units per panel.

The eight response strategy test panels consist of various treatments providing alternatives and additions to the control panel's mailing strategy. The sample households in one panel will have the option of responding via the Internet in addition to the option of completing a paper questionnaire and returning it by mail. Two other panels test a telephone interactive voice recognition (IVR) system as an alternative to mailing back the paper questionnaire. The distinction among these two panels is the extent to which residents are encouraged to choose the IVR option instead of mail. One panel will encourage residents to respond by telephone without including a paper questionnaire and the second will give them the option of responding by telephone or with a questionnaire. Two panels, one without an initial questionnaire in the envelope, will give residents both the Internet and IVR as response options. Other response strategy treatment panels include using a telephone call reminder in lieu of a reminder postcard, putting a due date on the questionnaire envelope, and a mailing strategy without a replacement questionnaire.

Responses from paper mail returns, the Internet, and IVR will be data captured in order to analyze the demographic characteristics of respondents and patterns of item nonresponse. Results of the test will help shape the data collection strategy for the next census.

The six additional test panels are designed to test the effects on the overall and item nonresponse of changes to the questions on Hispanic origin and race. The purpose of this test is to examine the effects of dropping the “Some other race” response category from the race question, and whether additional instructions can ameliorate the resulting increase in race item nonresponse expected, as well as convey to respondents the intent of this question. Previously, the overwhelming majority of responses in the “Some other race” category were Hispanic ethnicities. It is vital that respondents understand that the intent of the question on race is for them to self-report their race using one or more of the race categories shown on the form. In addition, revisions to the Hispanic Origin question, including adding examples of Hispanic groups to obtain more complete reporting of detailed Hispanic subgroups, are being tested.

Because of the listing of Asian and Pacific Islander ethnicities, along with other design effects of the question, some respondents think we are asking them to report their ethnicity and not their race. Others do not see a difference between race and ethnicity. We also are including Other Asian and Other Pacific Islander examples to obtain more complete reporting of detailed Other Asian and Other Pacific Islander subgroups. The six panels test the effects of the following changes compared to the control panel.

1. A modified Hispanic origin question, including the addition of the word “origin,” slight revisions to the instruction for the question, and removing the slashes (/). (The same modified Hispanic question is used in all six panels.)

2. The inclusion of examples of Hispanic groups and Other Asian and Other Pacific Islander groups to obtain more complete reporting of detailed other Asian and Other Pacific Islander subgroups.

3. The deletion of the “Some other race” response option and write-in area.

4. The deletion of the “Some other race” response option and write in area and the addition of examples of Hispanic groups and Other Asian and Pacific Islander groups.

5. The deletion of the “Some other race” response and addition of an “informative instruction” to increase respondents awareness that race and Hispanic origin are different.

6. The deletion of the “Some other race” response, addition of “informative instruction” to increase respondents awareness that race and Hispanic origin are different and, adding examples of Hispanic groups and Other Asian and Other Pacific Islander groups.

Responses from these paper mail returns also will be data captured in order to analyze the demographic characteristics of respondents and patterns of item nonresponse.

III. Data

OMB Number: Not available.

Form Number(s): DA-1A, 1B, 1C, 1D, 1DD, DA-1(CC-9), 10, 11, 12, 13.

Type of Review: Regular.

Affected Public: Individuals or households.

Estimated Number of Respondents: 220,000.

Estimate Time Per Response: 10 minutes.

Estimated Total Annual Burden Hours: 36,666 hours.

Estimated Total Annual Cost: There is no cost to respondents except for their time to respond.

Respondent Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 3, 2002.
Madeleine Clayton,
Departmental Paperwork Clearance Officer, Office of the Chief Information Officer.

[FR Doc. 02-14242 Filed 6-6-02; 8:45 am]

BILLING CODE 3510-07-P